DEPARTMENT OF THE INTERIOR

Bureau of Land Management

[MT-926-07-1910-BJ-5RED]

Montana: Filing of Plat of Survey

AGENCY: Bureau of Land Management, Montana State Office, Interior.

ACTION: Notice of Filing of Plat of Survey.

SUMMARY: The Bureau of Land Management (BLM) will file the plat of survey of the lands described below in the BLM Montana State Office, Billings, Montana, (30) days from the date of publication in the Federal Register.

FOR FURTHER INFORMATION CONTACT: Steve Toth, Cadastral Surveyor, Branch of Cadastral Survey, Bureau of Land Management, 5001 Southgate Drive, Billings, Montana 59101-4669, telephone (406) 896-5121 or (406) 896-5009.

SUPPLEMENTARY INFORMATION: This survey was executed at the request of the Northern Cheyenne Agency, through the Rocky Mountain Regional Director, Bureau of Indian Affairs, and was necessary to determine Trust and Tribal lands. The lands we surveyed are:

Principal Meridian, Montana

T. 3 S., R. 44 E.

The plat, in 5 sheets, representing the dependent resurvey of a portion of the south boundary, the corrective dependent resurvey of the line between sections 32 and 33, the dependent resurvey of a portion of the subdivisional lines, the corrective dependent resurvey of a portion of the subdivision of section 32, the dependent resurvey of a portion of the subdivision of sections 32 and 33, the adjusted original meanders of the former right bank and a portion of the adjusted original meanders of the former left bank of the Tongue River, downstream, through sections 32 and 33, and the subdivision of section 33, and the survey of certain meanders of the present right and left banks of the Tongue River, downstream, through sections 32 and 33, and certain division of accretion lines, in Township 3 South, Range 44 East, Principal Meridian, Montana, was accepted March 21, 2007.

We will place a copy of the plat, in 5 sheets, and related field notes we described in the open files. They will be available to the public as a matter of information.

If BLM receives a protest against this survey, as shown on this plat, in 5 sheets, prior to the date of the official filing, we will stay the filing pending our consideration of the protest.

We will not officially file this plat, in 5 sheets, until the day after we have accepted or dismissed all protests and they have become final, including decisions or appeals.

Dated: March 28, 2007.
Heidi L. Pfosch,
Acting Chief Cadastral Surveyor, Division of Resources.

[FR Doc. E7-6120 Filed 4-2-07; 8:45 am]

BILLING CODE 4310-$$-P